DEPARTMENT OF STATE

[Public Notice 7124]

Javits Report 2011

SUMMARY: In accordance with § 25 of the Arms Export Control Act (AECA), the State Department is required to provide to Congress an Arms Sale Proposal (the Javits Report) covering all sales and licensed commercial exports of major weapons or weapons-related defense equipment for $7,000,000 or more, or of any other weapons or weapons-related defense equipment for $25,000,000 or more, which are considered eligible for approval. The Directorate of Defense Trade Controls (DDTC) is soliciting input regarding licensed commercial exports (i.e., direct commercial sales) for the report.

DATES: All Javits Report 2011 submissions regarding direct commercial sales (DCS) must be received by September 10, 2010.

FOR FURTHER INFORMATION CONTACT: Members of the public who need additional information regarding the DCS portion of the Javits Report should contact Patricia Slygh, PM/DDTC, SA-1, 12th Floor, Directorate of Defense Trade Controls, Bureau of Political-Military Affairs, U.S. Department of State, Washington, DC 20522-0112; telephone (202) 663-2830; or e-mail SlyghPC@State.gov.

SUPPLEMENTARY INFORMATION: The Javits Report 2011 is an Arms Sales Proposal, to Congress, which covers all sales and licensed commercial exports under the Arms Export Control Act of major weapons or weapons-related defense equipment for $7,000,000 or more, or of any other weapons or weapons-related defense equipment for $25,000,000 or more, which are considered eligible for approval during calendar year 2011, together with an indication of which licensed commercial exports are deemed most likely to result in the issuance of an export license during 2011.

Javits Report entries for proposed Direct Commercial Sales should be submitted on the DS-4048 form to javitsreport@state.gov, no later than September 10, 2010. The DS-4048 form and instructions are located on the DDTC's Web site at http://www.pmddtc.state.gov/reports/javits_report.html. Submissions should be limited to those activities for which a prior marketing license or other approval from DDTC has been authorized and ongoing contract negotiations will result in either a procurement date in 2011 or the likely award of the contract to the reporting company during 2011. To complete the DS-4048 form, the following information is required: Country to which sale is proposed; Category of proposed sale (aircraft, missile, ships, satellite, etc.); Type of sale (direct commercial sale or foreign military sale); Value of proposed sale and quantity of items anticipated. Include a concise description of the article to be sold, including status of the proposed sale or export any details of what is expected to be included in the contract (maintenance, upgrade, etc.).

Dated: August 9, 2010.
Robert S. Kovac,
Managing Director, Directorate of Defense Trade Controls, Department of State.

[FR Doc. 2010-20627 Filed 8-18-10; 8:45 am]

BILLING CODE 4710-25-P